DEPARTMENT OF TRANSPORTATION

Federal Aviation Administration

14 CFR Part 39

[Docket No. FAA-2007-27747; Directorate Identifier 2007-CE-030-AD]

RIN 2120-AA64

Airworthiness Directives; Cessna Aircraft Company 150 and 152 Series Airplanes

AGENCY: Federal Aviation Administration (FAA), Department of Transportation (DOT).

ACTION: Notice of proposed rulemaking (NPRM).

SUMMARY: We propose to revise Airworthiness Directive (AD) 2009-10-09, which applies to certain Cessna Aircraft Company (Cessna) 150 and 152 series airplanes. AD 2009-10-09 requires either installing a placard prohibiting spins and other acrobatic maneuvers in the airplane or replacing the rudder stop, the rudder stop bumper, and the attachment hardware with a new rudder stop modification kit and replacing the safety wire with jamnuts. Since we issued AD 2009-10-09, we became aware of a need to clarify certain model and serial number designations, remove the duplicate requirement of replacing the safety wire with jamnuts, and clarify the conditional acceptability of using Modification Kit part number (P/N) SK152-25 as a terminating action to this proposed AD. Consequently, this proposed AD would retain the actions currently required in AD 2009-10-09, correct model designation for certain serial numbers, remove the duplicate requirement of replacing safety wire with jamnuts, and clarify the conditional acceptability of using Modification Kit P/N SK152-25 as a terminating action to this proposed AD. We are proposing this AD to prevent the rudder from traveling past the normal travel limit. Operation in this non-certificated control position is unacceptable and could cause undesirable consequences, such as contact between the rudder and the elevator.

DATES: We must receive comments on this proposed AD by September 28, 2009.

ADDRESSES: Use one of the following addresses to comment on this proposed AD:

• Federal eRulemaking Portal: Go to http://www.regulations.gov. Follow the instructions for submitting comments.

• Fax: (202) 493-2251

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Cessna Aircraft Company, Product Support, P.O. Box 7706, Wichita, KS 67277; telephone: (316) 517-5800; fax: (316) 517-7271; Internet: http://www.cessna.com.

FOR FURTHER INFORMATION CONTACT: Ann Johnson, Aerospace Engineer, FAA, Wichita Aircraft Certification Office, 1801 Airport Road, Room 100, Wichita, Kansas 67209; telephone: (316) 946-4105; fax: (316) 946-4107; e-mail: ann.johnson@faa.gov.

SUPPLEMENTARY INFORMATION:

Comments Invited

We invite you to send any written relevant data, views, or arguments regarding this proposed AD. Send your comments to an address listed under the ADDRESSES section. Include the docket number, “FAA-2007-27747; Directorate Identifier 2007-CE-030-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

Investigations of two spin accidents involving Cessna Model 152 airplanes revealed the rudder was found in the over-travel position with the stop plate hooked over the stop bolt heads. After examining the accident airplanes and other Cessna Models 150 and 152 airplanes, accident investigators determined that, under certain conditions, it is possible to jam the rudder past its normal travel limit. The jam occurs when the stop plate is forced aft of the stop bolt head. The forward edge of the stop plate can then become lodged under the head of the stop bolt causing the rudder to jam in this over-travel position. Recovery from a spin may not be possible with the rudder jammed beyond the normal rudder travel stop limits. This condition caused us to issue AD 2009-10-09, Amendment 39-15904 (74 FR 22429, May 13, 2009) on certain Cessna 150 and 152 series airplanes. AD 2009-10-09 currently requires the following:

• Installing a placard prohibiting spins and other acrobatic maneuvers in the airplane; or

• Replacing the rudder stop, the rudder stop bumper, and the attachment hardware with a new rudder stop modification kit; and

• Replacing the safety wire with jamnuts.

Since we issued AD 2009-10-09, we became aware of a need to clarify certain model and serial number designations and to remove the duplicate requirement to replace safety wire with jamnuts since this procedure is already included in the modification kit instructions. We also became aware of a need to clarify the conditional acceptability of using Modification Kit P/N S152-25 as a terminating action to this proposed AD.

This condition, if not corrected, could cause contact between the rudder and the elevator and result in loss of control.

Relevant Service Information

The service information referenced in AD 2009-10-09 is still applicable for this proposed AD.

FAA's Determination and Requirements of the Proposed AD

We are proposing this AD because we evaluated all information and determined the unsafe condition described previously is likely to exist or develop on other products of the same type design. This proposed AD would revise AD 2009-10-09 with a new AD that would retain the actions currently required in AD 2009-10-09, correct model designation for certain serial numbers, remove the duplicate requirement to replace the safety wire with jamnuts, and clarify the conditional acceptability of using the P/N SK152-25 kit as a terminating action to this proposed AD. This proposed AD would require you to use the service information described previously to perform these actions.

Costs of Compliance

We estimate that this AD affects 17,090 airplanes in the U.S. registry.

We estimate the following costs to do the proposed insertion of the operational limitation:

Labor cost | Parts cost | Total cost per airplane | Total cost on U.S. operators
1 work-hour × $80 per hour = $80 | Not applicable | $80 | $1,367,200

We estimate the following costs to do the proposed modification:

Labor cost | Parts cost | Total cost per airplane | Total cost on U.S. operators
4 work-hours × $80 per hour = $320 | $90 | $410 | $7,006,900

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2009-10-09, Amendment 39-15904 (74 FR 22429, May 13, 2009), and adding the following new AD:

Cessna Aircraft Company: Docket No. FAA-2007-27747; Directorate Identifier 2007-CE-030-AD.

Comments Due Date

(a) We must receive comments on this airworthiness directive (AD) action by September 28, 2009.

Affected ADs

(b) This AD revises AD 2009-10-09, Amendment 39-15904.

Applicability

(c) This AD applies to the following airplane models and serial numbers that are certificated in any category:

Models | Serial Nos.
(1) 150F | 15061533 through 15064532.
(2) 150G | 15064533 through 15064969 and 15064971 through 15067198.
(3) 150H | 15067199 through 15069308 and 649.
(4) 150J | 15069309 through 15071128.
(5) 150K | 15071129 through 15072003.
(6) 150L | 15072004 through 15075781.
(7) 150M | 15075782 through 15079405.
(8) A150K | A1500001 through A1500226.
(9) A150L | A1500227 through A1500432 and A1500434 through A1500523.
(10) A150M | A1500524 through A1500734 and 15064970.
(11) F150F | F150-0001 through F150-0067.
(12) F150G | F150-0068 through F150-0219.
(13) F150H | F150-0220 through F150-0389.
(14) F150J | F150-0390 through F150-0529.
(15) F150K | F15000530 through F15000658.
(16) F150L | F15000659 through F15001143.
(17) F150M | F15001144 through F15001428.
(18) FA150K | FA1500001 through FA1500081.
(19) FA150L | FA1500082 through FA1500120.
(20) FA150L or FRA150L | FA1500121 through FA1500261 that are equipped with FKA150-2311 and FKA150-2316, or FRA1500121 through FRA1500261.
(21) FA150M or FRA150M | FA1500262 through FA1500336 that are equipped with FKA150-2311 and FKA150-2316, or FRA1500262 through FRA1500336.
(22) 152 | 15279406 through 15286033.
(23) A152 | A1520735 through A1521049, A1500433, and 681.
(24) F152 | F15201429 through F15201980.
(25) FA152 | FA1520337 through FA1520425.

Note: This AD revision clarifies the applicability of AD 2009-10-09, eliminates a duplicate requirement for replacement of safety wire with jamnuts, and clarifies the intent of the conditional acceptability of using Modification Kit P/N SK152-25 as a terminating requirement to the AD. No further action is required for those already in compliance with AD 2009-10-09.

Unsafe Condition

(d) Aircraft in full conformity with type design can exceed the travel limits set by the rudder stops. We are issuing this AD to prevent the rudder from traveling past the normal travel limit. Operation in this non-certificated control position is unacceptable and could cause undesirable consequences, such as contact between the rudder and the elevator.

Compliance

(e) To address this problem, you must do either the actions in option 1 or option 2 of this AD, unless already done:

Actions | Compliance | Procedures
(1) Option 1: For all airplanes that do not have modification kits part number (P/N) SK152-25A or P/N SK152-24A installed, do the following: (i) Insert the following text into the Limitations section of the FAA-approved airplane flight manual (AFM), and pilots operating handbook (POH): “INTENTIONAL SPINS AND OTHER ACROBATIC/AEROBATIC MANEUVERS PROHIBITED PER AD 2009-10-09. NOTE: THIS AD DOES NOT PROHIBIT PERFORMING INTENTIONAL STALLS” | Within the next 100 hours time-in-service (TIS) after June 17, 2009 (the effective date retained from AD 2009-10-09), or within the next 12 months after June 17, 2009 (the effective date retained from AD 2009-10-09), whichever occurs first | A person authorized to perform maintenance as specified in 14 CFR section 43.3 of the Federal Aviation Administration Regulations (14 CFR 43.3) is required to make the AFM and POH changes, fabricate the placard required in paragraph (e)(1)(i) of this AD, and make an entry into the aircraft logbook showing compliance with the portion of the AD per compliance with 14 CFR 43.9.
(ii) Fabricate a placard (using at least ⅛-inch letters) with the following words and install the placard on the instrument panel within the pilot's clear view: “INTENTIONAL SPINS AND OTHER ACROBATIC/AEROBATIC MANEUVERS PROHIBITED PER AD 2009-10-09.” |  |
(iii) The AFM and POH limitations in paragraph (e)(1)(i) of the AD and the placard in paragraph (e)(1)(ii) of this AD may be removed after either paragraph (e)(2)(i) or paragraph (e)(2)(ii) of this AD is done |  |
(2) Option 2: Install a rudder stop modification kit: (i) For airplanes with a forged bulkhead, replace the rudder stops, rudder stop bumpers, and attachment hardware with the new rudder stop modification kit P/N SK152-25A, which includes replacing the safety wire with jamnuts | Within the next 100 hours TIS after June 17, 2009 (the effective date retained from AD 2009-10-09), or within the next 12 months after June 17, 2009 (the effective date retained from AD 2009-10-09), whichever occurs first | Follow Cessna Aircraft Company Service Bulletin SEB01-1, dated January 22, 2001; and, as applicable, either Cessna Aircraft Company Service Kit SK152-25A, Revision A, dated February 9, 2001, or Cessna Aircraft Company Service Kit SK152-24A, Revision A, dated March 9, 2001.
(ii) For airplanes with a sheet metal bulkhead, replace the rudder stops, rudder stop bumpers, and attachment hardware with the new rudder stop modification kit P/N SK152-24A, which includes replacing the safety wire with jamnuts |  |

(f) Kit P/Ns SK152-24 and SK152-25, which are listed in SEB01-1, were superseded by kit P/Ns SK152-24A and SK152-25A. Cessna has not revised the service bulletin to reflect the new P/Ns. The kits P/Ns SK152-24 and SK152-25 will automatically be filled with P/Ns SK152-24A and SK152-25A, respectively.

(1) The P/N SK152-24 kit does not address the unsafe condition because the nutplate in the kit can not be used due to rivet spacing on the aft bulkhead. In addition, a note was added to kit P/N SK152-24A stating “some airplanes in this serial range may have a forged bulkhead installed after leaving the factory. Service Kit SK152-25A or later revision must be used to modify these airplanes.” Therefore, kit P/N SK152-24 is not allowed for installation for this AD.

(2) The P/N SK152-25 kit did not address the unsafe condition because a washer that was too small, P/N NAS1149FN832P, was included in the kit. This error was corrected in the P/N SK152-25A kit. If a P/N SK152-25 kit is installed using the correct washer P/N NAS1149F0332P (and this information is recorded in the maintenance log), credit will be given for installing P/N SK152-25A kit because this was the only difference between the kits.

(3) If you previously installed a kit P/N SK152-24 or a kit P/N SK152-25 with washer P/N NAS1149FN832P, and you choose the Option 2 kit installation to comply with this AD, then kit P/N SK152-24A or either kit P/N SK152-25 with washer P/N NAS1149F0332P or kit P/N SK152-25A, as applicable, must be installed.

(4) If a P/N SK152-25 kit was installed prior to this AD and the washer P/N used in the installation is unknown (not recorded in the maintenance log), and you wish to use Option 2 to comply with this AD, the washer installed in place of P/N NAS1149F0332P must be replaced with a washer P/N NAS1149F0332P, and this work must be recorded in the maintenance log.

Alternative Methods of Compliance (AMOCs)

(g) The Manager, FAA, ATTN: Ann Johnson, Aerospace Engineer, FAA, Wichita Aircraft Certification Office, 1801 Airport Road, Room 100, Wichita, Kansas 67209; telephone: (316) 946-4105; fax: (316) 946-4107; e-mail: ann.johnson@faa.gov, has the authority to approve AMOCs for this AD, if requested using the procedures found in 14 CFR 39.19. Before using any approved AMOC on any airplane to which the AMOC applies, notify your appropriate principal inspector (PI) in the FAA Flight Standards District Office (FSDO), or lacking a PI, your local FSDO.

(h) AMOCs approved for AD 2009-10-09 are approved for this AD.

Related Information

(i) To get copies of the service information referenced in this AD, contact Cessna Aircraft Company, Product Support, P.O. Box 7706, Wichita, KS 67277; telephone: (316) 517-5800; fax: (316) 517-7271; Internet: http://www.cessna.com. To view the AD docket, go to U.S. Department of Transportation, Docket Operations, M-30, West Building Ground Floor, Room W12-140, 1200 New Jersey Avenue, SE., Washington, DC 20590, or on the Internet at http://www.regulations.gov.

Issued in Kansas City, Missouri, on August 7, 2009.
Kim Smith,
Manager, Small Airplane Directorate, Aircraft Certification Service.

[FR Doc. E9-19498 Filed 8-13-09; 8:45 am]

BILLING CODE 4910-13-P